NATIONAL SCIENCE FOUNDATION

Special Emphasis Panel in Experimental & Integrative Activities; Notice of Meeting

In accordance with the Federal Advisory Committee Act (Pub. Law 92-463, as amended), the National Science Foundation announces the following meeting:

Name: Special Emphasis Panel in Experimental & Integrative Activities (1193).

Date and Time: February 27, 2001, 8:30 a.m.-5 p.m.

Place: National Science Foundation, 4201 Wilson Boulevard, Arlington, VA, Rm. 1150.

Type of Meeting: Closed.

Contact Person: Dr. Charles Maddox, CISE Postdoctoral Research Associates in Experimental Computer Science, Experimental and Integrative Activities, Room 1160, National Science Foundation, 4201 Wilson Boulevard, Arlington, VA 22230, (703) 292-8980.

Purpose of Meeting: To provide advice and recommendations concerning proposals submitted to the National Science Foundation for financial support.

Agenda: To review and evaluate CISE Postdoctoral Research Associates in Experimental Computer Science proposals submitted in response to the program announcement (NSF 97-169).

Reason for Closing: The proposals being reviewed include information of a proprietary or confidential nature, including technical information; financial data, such as salaries; and personal information concerning individuals associated with the proposals. These matters are exempt under 5 U.S.C. 552b(c), (4) and (6) of the Government in the Sunshine Act.

Dated: December 26, 2000.
Karen J. York,
Committee Management Officer.

[FR Doc. 00-33437 Filed 12-29-00; 8:45 am]

BILLING CODE 7555-01-M